DEPARTMENT OF TRANSPORTATION

Federal Aviation Administration

14 CFR Part 39

[Docket No. FAA-2008-0299; Directorate Identifier 2007-NM-254-AD; Amendment 39-15593; AD 2008-13-30]

RIN 2120-AA64

Airworthiness Directives; Gulfstream Aerospace LP Model Astra SPX, 1125 Westwind Astra, and Gulfstream 100 Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Two of the fasteners used to attach the “scissors” to the horizontal and the vertical stabilizers were found broken during routine maintenance. The highest loads on the “scissors” occur when using high reverse thrust. Therefore, the reverse thrust must be limited to idle in order to keep the loads at a sufficiently low level to preclude any structural problem. * * *

Failure of the attachment fasteners could result in possible in-flight loss of a horizontal or vertical stabilizer and consequent loss of control of the airplane. We are issuing this AD to require actions to correct the unsafe condition on these products.

DATES: This AD becomes effective August 12, 2008.

The Director of the Federal Register approved the incorporation by reference of certain publications listed in this AD as of August 12, 2008.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Mike Borfitz, Aerospace Engineer, International Branch, ANM-116, FAA, Transport Airplane Directorate, 1601 Lind Avenue, SW., Renton, Washington 98057-3356; telephone (425) 227-2677; fax (425) 227-1149.

SUPPLEMENTARY INFORMATION:

Discussion

We issued a notice of proposed rulemaking (NPRM) to amend 14 CFR part 39 to include an AD that would apply to the specified products. That NPRM was published in the Federal Register on March 14, 2008 (73 FR 13800). That NPRM proposed to correct an unsafe condition for the specified products. The MCAI states:

Two of the fasteners used to attach the “scissors” to the horizontal and the vertical stabilizers were found broken during routine maintenance. The highest loads on the “scissors” occur when using high reverse thrust. Therefore, the reverse thrust must be limited to idle in order to keep the loads at a sufficiently low level to preclude any structural problem. It was established that on model 1125 Astra, alternate fasteners of inferior strength were sometimes installed. When the originally specified fasteners are installed, the limitations on reverse thrust used may be lifted. For models Astra SPX and G100, however, the limitation remains in effect till further revision of this AD.

Failure of the attachment fasteners could result in possible in-flight loss of a horizontal or vertical stabilizer and consequent loss of control of the airplane. Corrective actions include revising the airplane flight manual (AFM); inspections for damage of the bolts and replacing the bolt, if necessary; and doing related investigative and other corrective actions (eddy current inspection for bolt hole diameter and damage, contact Gulfstream for repair and do repair). You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect about 129 products of U.S. registry. We also estimate that it will take about 10 work-hours per product to comply with the basic requirements of this AD. The average labor rate is $80 per work-hour. Required parts will cost about $33 per product. Where the service information lists required parts costs that are covered under warranty, we have assumed that there will be no charge for these parts. As we do not control warranty coverage for affected parties, some parties may incur costs higher than estimated here. Based on these figures, we estimate the cost of this AD to the U.S. operators to be $107,457, or $833 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-13-30 Gulfstream Aerospace LP (Formerly Israel Aircraft Industries, Ltd.): Amendment 39-15593. Docket No. FAA-2008-0299; Directorate Identifier 2007-NM-254-AD.

Effective Date

(a) This airworthiness directive (AD) becomes effective August 12, 2008.

Affected ADs

(b) None.

Applicability

(c) This AD applies to Gulfstream Aerospace LP Model Astra SPX, 1125 Westwind Astra, and Gulfstream 100 airplanes; certificated in any category; serial numbers 004 through 158.

Subject

(d) Air Transport Association (ATA) of America Code 55: Stabilizers.

Reason

(e) The mandatory continuing airworthiness information (MCAI) states:

Two of the fasteners used to attach the “scissors” to the horizontal and the vertical stabilizers were found broken during routine maintenance. The highest loads on the “scissors” occur when using high reverse thrust. Therefore, the reverse thrust must be limited to idle in order to keep the loads at a sufficiently low level to preclude any structural problem. It was established that on model 1125 Astra, alternate fasteners of inferior strength were sometimes installed. When the originally specified fasteners are installed, the limitations on reverse thrust used may be lifted. For models Astra SPX and G100, however, the limitation remains in effect till further revision of this AD.

Failure of the attachment fasteners could result in possible in-flight loss of a horizontal or vertical stabilizer and consequent loss of control of the airplane. Corrective actions include revising the airplane flight manual (AFM); inspections for damage of the bolts and replacing the bolt, if necessary; and doing related investigative and other corrective actions (eddy current inspection for bolt hole diameter and damage, contact Gulfstream for repair and do repair).

Actions and Compliance

(f) Unless already done, do the following actions.

(1) Within 30 days after the effective date of this AD: Revise the Limitations section of the AFM by incorporating the information in the applicable Israel Aircraft Industries (Gulfstream) temporary revisions (TR): Astra AFM TR 15; Astra SPX AFM TR 8; or Gulfstream 100 AFM TR 1; all dated June 14, 2007; into the Limitations section of the Gulfstream Astra, Astra SPX, or Gulfstream 100 AFM, as applicable. The TRs limit the normal use of reverse thrust to idle.

Note 1: The actions required by paragraph (f) of this AD may be done by inserting a copy of Israel Aircraft Industries (Gulfstream) Astra AFM TR 15; Astra SPX AFM TR 8; or Gulfstream 100 AFM TR 1; all dated June 14, 2007; as applicable; into the Limitations section of the Gulfstream Astra, Astra SPX, or Gulfstream 100 AFM, as applicable. When the applicable TR has been included in the general revisions of the applicable AFM, the general revisions may be inserted in the AFM.

(2) For all airplanes: Within 25 flight hours or 30 days after the effective date of this AD, whichever comes first, do the inspections specified in paragraphs (f)(2)(i) and (f)(2)(ii) of this AD in accordance with Part A of Gulfstream Alert Service Bulletin 100-55A-293, dated June 22, 2007.

(i) Visually inspect the attachment bolts and replace any damaged bolt before further flight.

(ii) Perform a detailed visual inspection of fittings with part number (P/N) 25W357222-501-51, and fillers with P/N 25W4011001-003, and surrounding structure for damage. If blind bolts with P/N MS21141U0612 are installed and no damage is found, no further action is required. If any damage is found, before further flight, repair using a method approved in accordance with the procedures specified in paragraph (g)(2) of this AD. If any bolt with P/N AN173C11 is installed and damage is found, replace the bolt and do all related investigative and applicable corrective actions before further flight.

(3) For Model 1125 Westwind Astra airplanes (serial numbers 004, 011 through 072 inclusive, and 073 through 078 inclusive): Within 12 months after the effective date of this AD, replace all P/N AN173C11 bolts, and do all related investigative and applicable corrective actions before further flight, as detailed in Part B of Gulfstream Alert Service Bulletin 100-55A-293, dated June 22, 2007. Accomplishment of Part B of the alert service bulletin constitutes terminating action for paragraph (f)(1) of this AD. Israel Aircraft Industries (Gulfstream) TR 15 may be deleted and unlimited use of reverse thrust is allowed per the Gulfstream Astra AFM.

Note 2: Reverse thrust limitations remain in effect for Model Astra SPX and Gulfstream 100 airplanes.

FAA AD Differences

Note 3: This AD differs from the MCAI and/or service information as follows:

Compliance Time: The compliance time required by the MCAI or service information for performing the AFM revision is immediate on receipt of this AD; however, to avoid inadvertently grounding airplanes, this AD requires performing the AFM revision within 30 days after the effective date of this AD.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Mike Borfitz, Aerospace Engineer, International Branch, ANM-116, FAA, Transport Airplane Directorate, 1601 Lind Avenue, SW., Renton, Washington 98057-3356; telephone (425) 227-2677; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI Israeli Airworthiness Directive 55-07-06-07R1, dated June 26, 2007; Gulfstream Alert Service Bulletin 100-55A-293, dated June 22, 2007; and Israel Aircraft Industries (Gulfstream) Astra SPX AFM TR 8, Astra AFM TR 15, and Gulfstream 100 AFM TR 1, all dated June 14, 2007; for related information.

Material Incorporated by Reference

(i) You must use Gulfstream Alert Service Bulletin 100-55A-293, dated June 22, 2007, and the temporary revisions specified in Table 1 of this AD, as applicable, to do the actions required by this AD, unless the AD specifies otherwise.

(1) The Director of the Federal Register approved the incorporation by reference of this service information under 5 U.S.C. 552(a) and 1 CFR part 51.

(2) For service information identified in this AD, contact Gulfstream Aerospace Corporation, P.O. Box 2206, Mail Station D-25, Savannah, Georgia 31402-2206.

(3) You may review copies at the FAA, Transport Airplane Directorate, 1601 Lind Avenue, SW., Renton, Washington; or at the National Archives and Records Administration (NARA). For information on the availability of this material at NARA, call (202) 741-6030, or go to: http://www.archives.gov/federal-register/cfr/ibr-locations.html.

Table 1.—Temporary Revisions Incorporated by Reference
Israel Aircraft Industries (Gulfstream) | Dated | To the
Astra SPX Temporary Revision 8 | June 14, 2007 | Gulfstream Astra SPX Airplane Flight Manual.
Astra Temporary Revision 15 | June 14, 2007 | Gulfstream Astra Airplane Flight Manual.
Gulfstream 100 Temporary Revision 1 | June 14, 2007 | Gulfstream 100 Airplane Flight Manual.

Issued in Renton, Washington, on June 6, 2008.
Michael Kaszycki,
Acting Manager, Transport Airplane Directorate, Aircraft Certification Service.

[FR Doc. E8-14469 Filed 7-7-08; 8:45 am]

BILLING CODE 4910-13-P